DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold an open to the public meeting on Wednesday, June 3, 2020 from 8:55 a.m. to 12:10 p.m.

ADDRESSES: The RFPB meeting will be online using Microsoft Teams CVR and Teleconference line. To participate in the meeting, see the Meeting Accessibility section for instructions.

FOR FURTHER INFORMATION CONTACT: Alexander Sabol, (703) 681-0577 (Voice), 703-681-0002 (Facsimile), alexander.j.sabol.civ@mail.mil (Email). Mailing address is Reserve Forces Policy Board, 5113 Leesburg Pike, Suite 601, Falls Church, VA 22041. Website: http://rfpb.defense.gov/. The most up-to-date changes to the meeting agenda can be found on the website and the Federal Register.

SUPPLEMENTARY INFORMATION: Due to circumstances beyond the control of the Department of Defense and the Designated Federal Officer, the Reserve Forces Policy Board was unable to provide public notification required by 41 CFR 102-3.150(a) concerning its meeting of June 3, 2020. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold an online open to the public meeting on Wednesday, June 3, 2020 from 8:55 a.m. to 12:10 p.m. The meeting will consist of remarks to the RFPB from the following invited speakers: Under Secretary of Defense for Personnel and Readiness will discuss the goals of the Under Secretary of Defense for Personnel and Readiness, the Department's response to the coronavirus disease 2019 (COVID-19), and potential changes to future policy necessitated by the response; the Deputy Commander, United States Northern Command (USNORTHCOM) will discuss the Reserve Components' role in USNORTHCOM's response to COVID 19 and recommended force structure/policy changes for future domestic response operations; the Navy Emergency Preparedness Liaison Officer (EPLO) for USNORTHCOM will discuss the role of EPLOs in COVID 19 response operations and speak to actions at the tactical level, focusing on lessons learned and recommendations for future disaster response efforts; the New York State Commissioner of the Division of Homeland Security and Emergency Services will discuss New York's perspective on the effectiveness of the partnership of the State, FEMA, and Department of Defense in COVID 19 response efforts, and provide recommendations to enhance future collaboration between entities; the Deputy Assistant Secretary Defense for Reserve Integration will discuss the impact of COVID 19 on the Reserve Components' readiness, discussing policies that hindered readiness, comparing best practices, and providing recommended future policy changes to preserve and enhance readiness during periods of distributed operations; and the Subcommittee on Supporting and Sustaining Reserve Component Personnel will discuss the Board's review of and make suggestions for the Department's New Administration Transition Book that will provide recommendations on strategies to enhance the future capabilities and effectiveness of the Reserve Components and Department as a whole, to include potential rebalancing of Active/Reserve future force structure.

Meeting Accessibility: Pursuant to 5 U.S.C. 552b, as amended and 41 CFR 102-3.140 through 102-3.165, and subject to the availability of space, the meeting is open online to the public from 8:55 a.m. to 12:10 p.m. Persons desiring to participate in the meeting online or by phone are required to submit their name, organization, email and telephone contact information to COL Christopher Warner at christopher.w.warner3.mil@mail.mil not later than Friday, May 29, 2020. Specific instructions, both for online or teleconference participation in the meeting, will be provided by reply email. The meeting agenda will be available prior to the meeting on the Board's website at: http://rfpb.defense.gov/.

Written Statements: Pursuant to section 10(a)(3) of the FACA and 41 CFR 102-3.105(j) and 102-3.140, interested persons may submit written statements to the RFPB about its approved agenda or at any time on the RFPB's mission. Written statements should be submitted to the RFPB's Designated Federal Officer (DFO) at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The DFO will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: May 21, 2020.
Aaron T. Siegel,
Alternate OSD Federal Register Liaison Officer, Department of Defense.

[FR Doc. 2020-11327 Filed 5-26-20; 8:45 am]

BILLING CODE 5001-06-P